DEPARTMENT OF COMMERCE

International Trade Administration

[Application No. 08-00005]

Export Trade Certificate of Review

ACTION: Notice of issuance of an Export Trade Certificate of Review to Redberri Global Corporation (Application No. 08-00005).

SUMMARY: On July 21, 2008, the U.S. Department of Commerce issued an Export Trade Certificate of Review to Redberri Global Corporation (“Redberri”). This notice summarizes the conduct for which certification has been granted.

FOR FURTHER INFORMATION CONTACT: Jeffrey Anspacher, Director, Export Trading Company Affairs, International Trade Administration, by telephone at (202) 482-5131 (this is not a toll-free number), or by e-mail at oetca@ita.doc.gov.

SUPPLEMENTARY INFORMATION: Title III of the Export Trading Company Act of 1982 (15 U.S.C. Sections 4001-21) authorizes the Secretary of Commerce to issue Export Trade Certificates of Review. The regulations implementing Title III are found at 15 CFR part 325 (2008).

Export Trading Company Affairs (“ETCA”) is issuing this notice pursuant to 15 CFR 325.6(b), which requires the Secretary of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Certified Conduct

Redberri is certified to engage in the Export Trade Activities and Methods of Operation described below in the following Export Trade and Export Markets.

I. Export Trade

1. Products

All Products, with emphasis on products that incorporate technologies such as bio-technology, software, nanotechnology, telemedicine, and other related technologies.

2. Services

All Services.

3. Technology Rights

Technology rights, including, but not limited to, patents, trademarks, copyrights, and trade secrets that relate to Products and Services.

4. Export Trade Facilitation Services (as they Relate to the Export of Products, Services, and Technology Rights)

Export Trade Facilitation Services include professional services in the areas of government relations and assistance with state and federal programs; foreign trade and business protocol; consulting; market research and analysis; collection of information on trade opportunities; export trade negotiations; joint ventures; logistical support; export management; export licensing; advertising; documentation and services related to compliance with customs requirements; insurance and financing; trade show exhibitions; organizational development; management and labor strategies; and transfer of technology.

II. Export Markets

The Export Markets include all parts of the world except the United States (the fifty states of the United States, the District of Columbia, the Commonwealth of Puerto Rico, the Virgin Islands, American Samoa, Guam, the Commonwealth of the Northern Mariana Islands, and the Trust Territory of the Pacific Islands).

III. Export Trade Activities and Methods of Operation

1. With respect to the sale of Products and Services, licensing of Technology Rights, and provision of Export Trade Facilitation Services, Redberri may:

a. Sales Prices: Establish sale prices, minimum sale prices, target sale prices or minimum target sale prices, and other terms of sale, in the Export Markets;

b. Marketing and Distribution: Conduct marketing and distribution in the Export Markets;

c. Promotion: Engage in promotional and marketing activities and collect information on trade opportunities in the Export Markets and distribute such information to Suppliers and Export Intermediaries;

d. Quantities: Agree on quantities to be sold in Export Markets, provided that each Supplier and Export Intermediary shall be required to dedicate only such quantity or quantities as each Supplier and Export Intermediary shall independently determine;

e. Market and Customer Allocation: Allocate geographic areas or countries, orders, or customers in the Export Markets;

f. Refusals to Deal: Refuse to quote prices or to market or sell to or for any customers in the Export Markets, or any countries or geographical areas in the Export Markets; and

g. Exclusive and Nonexclusive Export Intermediaries: Enter into exclusive and nonexclusive agreements appointing one or more Export Intermediaries, including regional representatives in Export Markets, for the sale in Export Markets, with price, quantity, territorial or customer restrictions as provided above.

2. Redberri may exchange and discuss the following information on a one-to-one basis with its individual Suppliers and Export Intermediaries:

a. Information about sales and marketing efforts for the Export Markets, activities and opportunities for sales of Products, Services, and Technology Rights in the Export Markets, selling strategies for the Export Markets, sales for the Export Markets, contract and spot pricing in the Export Markets, projected demands in the Export Markets for Products, Services, and Technology Rights, customary terms of sale in the Export Markets, prices and availability of Products, Services, and Technology rights from competitors for sale in the Export Markets, and specifications for Products, Services, and Technology Rights by customers in the Export Markets;

b. Information about the price, quality, quantity, source, and delivery dates of Products available from Suppliers and Export Intermediaries for export;

c. Information about terms and conditions of contracts for sales in the Export Markets to be considered or bid on by Redberri;

d. Information about bidding or selling arrangements for the Export Markets and allocations among Suppliers and Export Intermediaries of sales resulting from such arrangements;

e. Information about expenses specific to exporting to and within the Export Markets, including without limitation, transportation, trans- or intermodal shipments, insurance, inland freight to port, port storage, commissions, export sales, documentation, financing, customs duties, and taxes;

f. Information about U.S. and foreign legislation and regulations, including federal marketing order programs, affecting sales for the Export Markets;

g. Information about Redberri's export operations, including without limitation, sales and distribution networks established by Redberri or its Suppliers and Export Intermediaries in the Export Markets (including export price information); and

h. Information about export customers' credit terms and credit history.

3. Redberri may meet with its Suppliers and Export Intermediaries on a one-to-one basis to engage in the activities described in paragraphs 1 and 2 above.

4. Redberri and its Suppliers and Export Intermediaries may jointly participate in international trade shows and technology summits.

5. Redberri may market Products, Services, and Technology Rights under brand names to the extent it has the right to use those names under applicable law.

6. Redberri may form and operate electronic portals to promote Products, Services, and Technology Rights through a virtual marketplace for buyers and sellers in Export Markets, and thereby provide access to export trade opportunities, including publicly available overseas government tenders and non-governmental organization tenders.

7. Redberri may provide for or arrange for the provision of Export Trade Facilitation Services.

8. Redberri may negotiate, enter into, and manage exclusive or non-exclusive licensing agreements for the export of Technology Rights.

9. Redberri may enter into exclusive or nonexclusive agreements with Suppliers for the export of Products or Services to the Export Markets.

IV. Terms and Conditions of Certificate

1. In engaging in Export Trade Activities and Methods of Operations, Redberri will not intentionally disclose, directly or indirectly, to any Supplier or Export Intermediary any information about any other Supplier's or Export Intermediary's costs, production, capacity, inventories, domestic prices, domestic sales, or U.S. business plans, strategies, or methods that is not already generally available to the trade or public.

2. Redberri will comply with requests made by the Secretary of Commerce on behalf of the Secretary of Commerce or the Attorney General for information or documents relevant to conduct under the Certificate. The Secretary of Commerce will request such information or documents when either the Attorney General or the Secretary of Commerce believes that the information or documents are required to determine that the Export Trade, Export Trade Activities and Methods of Operation of a person protected by this Certificate of Review continue to comply with the standards of Section 303(a) of the Act.

V. Definitions

1. “Supplier” means a person who produces, provides, or sells Products, Services and/or Technology Rights.

2. “Export Intermediary” means a person who acts as a distributor, sales representative, sales or marketing agent, import agent, broker, or who performs similar functions including providing or arranging for the provision of Export Trade Facilitation Services.

VI. Protection Provided by Certificate

The Certificate protects Redberri and its directors, officers, and employees acting on its behalf, from private treble damage actions and government criminal and civil suits under U.S. federal and state antitrust laws for the export conduct specified in the Certificate and carried out during its effective period in compliance with its terms and conditions.

VII. Effective Period of Certificate

The Certificate continues in effect until it is relinquished, modified, or revoked as provided in the Act and the Regulations.

VIII. Other Conduct

Nothing in the Certificate prohibits Redberri from engaging in conduct not specified in the Certificate, but such conduct is subject to the normal application of the antitrust laws.

IX. Disclaimers

1. The issuance of the Certificate of Review to Redberri by the Secretary of Commerce with the concurrence of the Attorney General under the provisions of the Act does not constitute, explicitly or implicitly, an endorsement or opinion of the Secretary of Commerce or the Attorney General concerning either (a) the viability or quality of the business plans of Redberri or (b) the legality of such business plans of Redberri under the laws of the United States (other than as provided in the Act) or under the laws of any foreign country.

2. The application of the Certificate to conduct in Export Trade where the U.S. Government is the buyer or where the U.S. Government bears more than half the cost of the transaction is subject to the limitations set forth in Section V.(D.) of the “Guidelines for the Issuance of Export Trade Certificates of Review (Second Edition),” 50 FR 1786 (January 11, 1985).

A copy of the Certificate will be kept in the International Trade Administration's Freedom of Information Records Inspection Facility, Room 4100, U.S. Department of Commerce, 14th Street and Constitution Avenue, NW., Washington, DC 20230.

Dated: July 29, 2008.
Jeffrey Anspacher,
Director, Export Trading Company Affairs.

[FR Doc. E8-17798 Filed 8-1-08; 8:45 am]

BILLING CODE 3510-DR-P